FEDERAL COMMUNICATIONS COMMISSION

[CCB/CPD 97-39, 97-41, DA 04-2474]

Petitions for Waiver of 6.5 Percent Price Cap Local Exchange Carrier X-Factor

AGENCY: Federal Communications Commission.

ACTION: Notice, termination of proceeding.

SUMMARY: This document provides notice of the termination of the petitions for waiver of the 6.5 percent productivity-based “X-factor” for price cap local exchange carriers adopted by the Commission in a 1997 order. The petitions for waiver have been withdrawn by the petitioners.

DATES: Effective September 16, 2004, unless the Wireline Competition Bureau receives an opposition to the termination prior to that date.

ADDRESSES: Oppositions to the proceeding termination should be mailed to the Commission's Secretary through the Commission's contractor, Natek, Inc., at 236 Massachusetts Avenue, NE., Suite 110, Washington, DC 20002.

FOR FURTHER INFORMATION CONTACT: Jennifer McKee, Wireline Competition Bureau, Pricing Policy Division, (202) 418-1530.

SUPPLEMENTARY INFORMATION: On July 14, 1997, Citizens Utilities Company (Citizens) filed an emergency petition for waiver of the Commission's rules requiring it to apply a productivity X-factor of 6.5 percent under the price cap rules as established in the 1997 Price Cap Review Order, 62 FR 31939, June 11, 1997. On August 13, 1997, the Southern New England Telephone Company (SNET) also filed a petition for waiver and/or amendment of the Commission's rules establishing a 6.5 percent productivity X-factor. On October 7, 2003, SBC, SNET's parent company, filed a request to withdraw its petition. On August 2, 2004, Citizens filed a request to withdraw its petition. The Citizens Petition and the SNET Petition are dismissed without prejudice. Since the filing of the Citizens Petition and the SNET Petition, the Commission has revised its rules regarding the 6.5 percent productivity X-factor. The changes to the Commission's X-factor rules and the passage of time have mooted the issues raised in the Citizens Petition and the SNET Petition. Therefore, these proceedings will be terminated effective 30 days after publication of this Public Notice in the Federal Register, unless the Wireline Competition Bureau receives an opposition to the terminations before that date.

Parties filing oppositions to the termination of these proceedings must file an original and four copies of each filing. The filings should reference CCB/CPD File No. 97-39 for the Citizens Petition, and CCB/CPD File No. 97-41 for the SNET Petition. Filings can be sent by hand or messenger delivery, by commercial overnight courier, or by first-class or overnight U.S. Postal Service mail (although we continue to experience delays in receiving U.S. Postal Service mail). The Commission's contractor, Natek, Inc., will receive hand-delivered or messenger-delivered paper filings for the Commission's Secretary at 236 Massachusetts Avenue, NE., Suite 110, Washington, DC 20002.

• The filing hours at this location are 8 a.m. to 7 p.m.

• All hand deliveries must be held together with rubber bands or fasteners.

• Any envelopes must be disposed of before entering the building.

• Commercial overnight mail (other than U.S. Postal Service Express Mail and Priority Mail) must be sent to 9300 East Hampton Drive, Capitol Heights, MD 20743.

• U.S. Postal Service first-class mail, Express Mail, and Priority Mail should be addressed to 445 12th Street, SW., Washington, DC 20554.

All filings must be addressed to the Commission's Secretary, Marlene H. Dortch, Office of the Secretary, Federal Communications Commission, Room TW-A325, 445 12th Street, SW., Washington, DC 20554. Parties should also send a copy of their filings to Jennifer McKee, Pricing Policy Division, Wireline Competition Bureau, Federal Communications Commission, Room 5-A263, 445 12th Street, SW., Washington, DC 20554, or by e-mail to jennifer.mckee@fcc.gov. Parties shall also serve one copy with the Commission's copy contractor, Best Copy and Printing, Inc. (BCPI), Portals II, 445 12th Street, SW., Room CY-B402, Washington, DC 20554, (202) 488-5300, or via e-mail to fcc@bcpiweb.com.

Authority: 47 U.S.C. 152, 154, 155, 303; 47 CFR 0.291, 1.749.

Federal Communications Commission.
Jeffrey J. Carlisle,
Acting Chief, Wireline Competition Bureau.

[FR Doc. 04-18803 Filed 8-16-04; 8:45 am]

BILLING CODE 6712-01-P